NUCLEAR REGULATORY COMMISSION

[Docket No. 70-7015-ML; ASLBP No. 10-899-02-ML-BD01]

Areva Enrichment Services, LLC (Eagle Rock Enrichment Facility); Notice of Atomic Safety and Licensing Board Reconstitution

Pursuant to 10 CFR 2.313(c) and 2.321(b), the Atomic Safety and Licensing Board (Board) in the above-captioned Areva Enrichment Services proceeding is hereby reconstituted by appointing Administrative Judge G. Paul Bollwerk, III, to serve as Board Chair in place of Administrative Judge Alex S. Karlin, whose other assignments have rendered him unavailable to participate in this proceeding.

All correspondence, documents, and other materials shall continue to be filed in accordance with the NRC E-Filing rule. See 10 CFR 2.302 et seq.

Issued at Rockville, Maryland, this 24th day of August 2010.
E. Roy Hawkens,
Chief Administrative Judge, Atomic Safety and Licensing Board Panel.

[FR Doc. 2010-21515 Filed 8-27-10; 8:45 am]

BILLING CODE 7590-01-P